FEDERAL MARITIME COMMISSION

Ocean Transportation Intermediary License; Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 003672F.

Name: Astral Freight Services, Inc.

Address: 1418 NW. 82nd Avenue, Doral, FL 33126.

Date Revoked: May 13, 2011.

Reason: Failed to maintain a valid bond.

License Number: 004441N.

Name: Econoquality Freight Forwarders, Inc. dba EQ Line.

Address: 3201 NW. 116th Street, Suite B, Miami, FL 33167.

Date Revoked: May 4, 2011.

Reason: Failed to maintain a valid bond.

License Number: 17318NF.

Name: South Florida Auto Terminal Incorporated.

Address: 901 Old Griffin Road, Dania Beach, FL 33004.

Date Revoked: May 4, 2011.

Reason: Failed to maintain valid bonds.

License Number: 18229N.

Name: C.R.C. Universal, Inc.

Address: 7975 NW. 67th Street, Miami, FL 33166.

Date Revoked: May 13, 2011.

Reason: Failed to maintain a valid bond.

License Number: 019706N.

Name: Safe Movers, Inc. dba Isaac's Relocation Service.

Address: 181 Campanelli Parkway, Stoughton, MA 02072.

Date Revoked: May 4, 2011.

Reason: Failed to maintain a valid bond.

License Number: 021094N.

Name: Amid Logistics, LLC.

Address: 10 Florida Park Drive N., Suite D-1A, Palm Coast, FL 32137.

Date Revoked: May 23, 2011.

Reason: Surrendered license voluntarily.

License Number: 021130F.

Name: Bison Global Logistics Inc.

Address: 15508 Bratton Lane, Austin, TX 78728.

Date Revoked: May 14, 2011.

Reason: Failed to maintain a valid bond.

License Number: 021990N.

Name: America Global Logistics, LLC.

Address: 1335 NW. 98th Court, Suite 1, Miami, FL 33172.

Date Revoked: March 26, 2011.

Reason: Failed to maintain a valid bond.

License Number: 022019NF.

Name: International Logistic Services, Inc.

Address: 155-11 146th Avenue, Jamaica, NY 11434.

Date Revoked: May 11, 2011.

Reason: Failed to maintain valid bonds.

License Number: 022063N.

Name: Sar Transport Systems, Inc.

Address: 38 W. 32nd Street, Suite 1309B, New York, NY 10001.

Date Revoked: May 25, 2011.

Reason: Surrendered license voluntarily.

License Number: 022148NF.

Name: R+L Freight Services, L.L.C.

Address: 600 Gilliam Road, Wilmington, OH 45177.

Date Revoked: May 3, 2011.

Reason: Surrendered license voluntarily.

License Number: 022453F.

Name: Joker Logistics USA, Inc.

Address: 11301 Metro Airport Center Drive, Suite 170, Romulus, MI 48174.

Date Revoked: May 16, 2011.

Reason: Surrendered license voluntarily.

License Number: 022705NF.

Name: Post Oak Management Group, L.P. dba Momentum Global Logistics.

Address: 12335 Kingsride, Suite 217, Houston, TX 77024.

Date Revoked: May 18, 2011.

Reason: Failed to maintain valid bonds.

Sandra L. Kusumoto,
Director, Bureau of Certification and Licensing.

[FR Doc. 2011-14814 Filed 6-14-11; 8:45 am]

BILLING CODE 6730-01-P